DEPARTMENT OF HEALTH AND HUMAN SERVICES

Office of the Secretary

[Document Identifier: OS-04040-0003; 60-day notice]

Agency Information Collection Activities: Proposed Collection; Comment Request

Agency: Office of the Secretary, HHS.

In compliance with the requirement of section 3506(c)(2)(A) of the Paperwork Reduction Act of 1995, the Grants.gov Program Management Office, one of the 26 E-Government initiatives, managed by the Department of Health and Human Services is publishing the following summary of proposed collection for public comment. Interested individuals are invited to send comments regarding any aspect of this collection of information or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Extension.

Title of Information Collection: SF-424 Short Organizational.

Form/OMB No.: 4040-0003.

Use: The SF-424 (short) is a simplified, alternative government-wide data set and application cover page for use by Federal grant-making agencies. Agencies may use the SF-424 (Short) for grant programs not requiring all the data that is required on the SF-424 core data set and form. This information collection request also includes two additional government-wide forms, the Key Contacts form and the Project Abstract form, each of which can be used in conjunction with the SF-424 to collect supplemental applicant data. The Key Contacts form is an optional form that the agencies may use to collect additional key contact or point of contact information. The Project Abstract form is also an optional form that provides the mechanism for the applicant to attach a file that contains an abstract of the project, in a format specified by the agency.

The SF-424 (Short) and supplemental data set and forms are currently available for use as part of the electronic application process of Grants.gov, which was deployed in October 2003 and is part of the implementation of the Federal Financial Assistance Management Improvement Act of 1999 (Pub. L. 106-107). Currently, six agencies plan to continue the use of the SF-424 (Short) in lieu of the SF-424 for eligible grant programs.

Frequency: Recordkeeping, Reporting, on occasion.

Affected Public: State, Local or Tribal government; Farms; Not-for-profit institutions, and Business or other for-profit.

Annual Number of Respondents: 8549.

Total Annual Responses: 8549.

Average Burden per Response: 25 min.

Total Annual Hours: 3562.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be received within 60 days, and directed to the OS Paperwork Clearance Officer at the following address: Department of Health and Human Services, Office of the Secretary, Assistant Secretary for Resources and Technology, Office of Resources Management, Attention: Sherrette Funn-Coleman (0990-NEW), Room 537-H, 200 Independence Avenue, SW., Washington, DC 20201.

Dated: January 18, 2007.
Alice Bettencourt,
Office of the Secretary, Paperwork Reduction Act Reports Clearance Officer.

[FR Doc. E7-1185 Filed 1-25-07; 8:45 am]

BILLING CODE 4150-24-P